DEPARTMENT OF COMMERCE

International Trade Administration

Proposed Information Collection; Comment Request; Application for Designation of a Fair

AGENCY: International Trade Administration.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before July 12, 2010.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instrument and instructions should be directed to Valerie Barnes, Office of Global Trade Programs, International Trade Administration; Phone: (202) 482-3955, Fax: (202) 482-7800, Valerie.Barnes@trade.gov.

SUPPLEMENTARY INFORMATION:

I. Abstract

The International Trade Administration, Global Trade Programs, offers trade fair guidance and assistance to trade fair organizers, trade fair operators, and other travel- and trade-oriented groups. The fairs open doors to promising trade markets around the world, and provide an opportunity for showcasing quality exhibitors and products from around the world. The “Application for Designation of a Fair” is a questionnaire that is prepared and signed by an organizer to begin the certification process. It asks the fair organizer to provide details as to the date, place, and sponsor of the fair, as well as license, permit, and corporate backers, and countries participating. To apply for the certification, the fair organizer must have all the components of the application in order. Then, with the approval, the organizer is able to bring their products into the U.S. in accordance with Customs laws. The articles which may be brought in, include, but are not limited to, actual exhibit items, pamphlets, brochures, and explanatory material in reasonable quantities relating to the foreign exhibits at a trade fair, and material for use in constructing, installing, or maintaining foreign exhibits at a trade fair.

II. Method of Collection

The form is available online, and can be mailed, faxed, or e-mailed.

III. Data

OMB Control Number: 0625-0228.

Form Number(s): ITA-4135P.

Type of Review: Regular submission.

Affected Public: Business or other for-profit organizations.

Estimated Number of Respondents: 160.

Estimated Time per Response: 30 minutes.

Estimated Total Annual Burden Hours: 108.

Estimated Total Annual Cost to Public: $2,100.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: May 6, 2010.
Gwellnar Banks,
Management Analyst, Office of the Chief Information Officer.

[FR Doc. 2010-11215 Filed 5-11-10; 8:45 am]

BILLING CODE 3510-FP-P